NUCLEAR REGULATORY COMMISSION

Sunshine Act Meeting

AGENCY HOLDING THE MEETING: Nuclear Regulatory Commission.

DATE: Weeks of February 24, March 3, 10, 17, 24, 31, 2003.

PLACE: Commissioners' Conference Room, 11555 Rockville Pike, Rockville, Maryland.

STATUS: Public and Closed.

MATTERS TO BE CONSIDERED:

Week of February 24, 2003

There are no meetings scheduled for the Week of February 24, 2003.

Week of March 3, 2003—Tentative

Monday, March 3, 2003.

10 a.m.—Briefing on Status of Office of Nuclear Material Safety and Safeguards (NMSS) Programs—Waste Safety (Public Meeting) (Contact: Claudia Seeling, 301-415-7243).

This meeting will be webcast live at the Web address— http://www.nrc.gov.

2 p.m.—Discussion of Security Issues (Closed—Ex. 1).

Week of March 10, 2003—Tentative

There are no meetings scheduled for the Week of March 10, 2003.

Week of March 17, 2003—Tentative

Thursday, March 20, 2003.

10 a.m.—Briefing on Status of Office of Nuclear Security and Incident Response (NSIR) Programs, Performance, and Plans (Closed—Ex. 1).

2 p.m.—Discussion of Management Issues (Closed—Ex. 2).

Week of March 24, 2003—Tentative

Thursday, March 27, 2003

10 a.m.—Briefing on Status of Office of Nuclear Regulatory Research (RES) Programs, Performance, and Plans.

This meeting will be webcast live at the Web address— http://www.nrc.gov.

Week of March 31, 2003—Tentative

There are no meetings scheduled for the Week of March 31, 2003.

*The schedule for Commission meetings is subject to change on short notice. To verify the status of meetings call (recording)—(301) 415-1292. Contact person for more information: David Louis Gamberoni (301) 415-1615.

* * * * *

Additional Information: By a vote of 5-0 on February 13, the Commission determined pursuant to U.S.C. 552b(e) and § 9.107(a) of the Commission's rules that “Affirmation of Pacific Gas and Electric Co. (Diablo Canyon Nuclear Power Plant, Units 1 and 2), Docket Nos. 50-275-LT, 50-323-LT,” be held on February 14, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in received this Commission meeting schedule electronically, please send an electronic message to dkw@nrc.gov.

Dated: February 20, 2003.
David Louis Gamberoni,
Technical Coordinator, Office of the Secretary.

[FR Doc. 03-4532 Filed 2-21-03; 12:55 pm]

BILLING CODE 7590-01-M